FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011835.

Title: CMA CGM/CNAN Space Charter, Pooling and Cooperative Working Agreement.

Parties: CMA CGM, Societe Nationale de Transports Maritimes (“CNAN”).

Synopsis: The agreement authorizes the parties to exchange space on a first-come, first-served, space available basis for carriage of bulk cargoes on vessels they intend to time charter and operate in the trade between the U.S. East and Gulf Coasts from Eastport, Maine, to Brownsville, Texas, and countries bordering the Mediterranean and Black Seas plus Portugal and the Atlantic coast of Morocco. Initially, CMA CGM will provide one vessel, and CNAN will provide two vessels. The parties are also authorized to place containers on these vessels on a space available basis. Regarding the bulk cargoes, the parties will be pooling revenue, whereby the total freight revenues less the variable costs will be apportioned between the parties based on the number of vessels each party contributes. Finally, the parties are authorized to discuss rates and conditions in the trade and service contracts.

Agreement No.: 201075-003.

Title: Port of Oakland and Maersk Pacific, Ltd.

Parties: City of Oakland, Maersk Pacific, Ltd.

Synopsis: This amendment authorizes Maersk Pacific to operate transtainers for cargo container movement purposes within a specifically delineated area of the Premises without regard to the load limits contained in section 3.7 of the agreement.

Dated: December 30, 2002.
By Order of the Federal Maritime Commission.
Theodore A. Zook,
Assistant Secretary.

[FR Doc. 03-134 Filed 1-3-03; 8:45 am]

BILLING CODE 6730-01-P